ENVIRONMENTAL PROTECTION AGENCY

[EPA-R01-OW-2010-0318, FRL-9180-3]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the coastal waters of Gloucester, Rockport, Essex, Ipswich, Rowley, Newbury, Newburyport, Salisbury, Amesbury, West Newbury, Merrimac, Groveland, North Andover, Haverhill, Methuen, and Lawrence, collectively termed the Upper North Shore for the purpose of this notice.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U. S. Environmental Protection Agency—New England Region, Office of Ecosystem Protection, Oceans and Coastal Protection Unit, Five Post Office Square, Suite 100, OEP06-1, Boston, MA 02109-3912. Telephone: (617) 918-1538. Fax number: (617) 918-0538. E-mail address: rodney.ann@epa.gov.

SUPPLEMENTARY INFORMATION: On May 20, 2010, EPA published a notice that the Commonwealth of Massachusetts had petitioned the Regional Administrator, Environmental Protection Agency, to determine that adequate facilities for the safe and sanitary removal and treatment of sewage from all vessels are reasonably available for the waters of the Upper North Shore. Four comments were received on this petition. The response to comments can be obtained utilizing the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of the Upper North Shore. The NDA boundaries are as follows:

Waterbody/General area | From longitude | From latitude | To longitude | To latitude
The southern edge of the Upper North Shore NDA boundary is the Manchester/Gloucester municipal line at | 70°42′50″ W | 42°34′21″ N | 70°35′59″ W | 42°33′02″ N
The northern edge of the Upper North Shore NDA boundary is MA/Seabrook, NH border at | 70°48′47″ W | 42°52′19″ N | 70°43′57″ W | 42°52′35″ N
On the Merrimack River, the inland edge of the NDA boundary is at the Essex Dam in Lawrence at | 71°09′58″ W | 42°42′02″ N
On the Parker River, the inland edge of the NDA boundary is at the MBTA bridge in Newbury at | 70° 52′00″ W | 42° 45′20″ N
On the Rowley River, the inland edge of the NDA boundary is at the MBTA bridge on the Rowley/Ipswich town line at | 70° 51′28″ W | 42° 43′19″ N
On the Ipswich River, the inland edge of the NDA boundary is at County Street in Ipswich at | 70° 50′07″ W | 42° 40′44″ N
On the Essex River, the inland edge of the NDA boundary is at Main Street in Essex at | 70° 46′43″ W | 42° 37′55″ N

The eastern edge of the boundary is contiguous with the state/federal line also known as the Submerged Lands Act boundary line and Territorial Sea boundary. The area includes the municipal waters of Gloucester, Rockport, Essex, Ipswich, Rowley, Newbury, Newburyport, Salisbury, Amesbury, West Newbury, Merrimac, Groveland, North Andover, Haverhill, Methuen, and Lawrence.

The information submitted to EPA by the Commonwealth of Massachusetts certifies that there are 13 pumpout facilities located within this area. A list of the facilities, with locations, phone numbers, and hours of operation is appended at the end of this determination.

Based on the examination of the petition and its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities Within the No Discharge Area
[Upper North Shore]
Name | Location | Contact Info. | Hours | Mean low water depth (ft)
Gloucester Cape Ann Marina | 75 Essex Ave., Annisquam River | 978-283-3293; VHF 10 | 8am-4pm | 6
Gloucester Harbormaster | 19 Harbor Loop | 978-282-3012; VHF 16 | On call | N/A
Rockport Harbormaster | 34 Broadway | 978-546-9589; VHF 9, 16 | On call | N/A
Ipswich Harbormaster | 15 Elm Street, Plum Island Sound | 978-356-4343; VHF 9, 16 | On call | N/A
Rowley Harbormaster | 497 Main Street | VHF 9 | Thur-Tue; 10am-6pm | N/A
Rowley, Perley's Marina | 109 Warehouse Lane | 978-948-2812; VHF 9, 16 | Mon-Fri 8am-6pm; Sat-Sun 8am-5pm | 4
Newbury Riverfront Marina | 292 High Road | 978-465-6090; VHF 9 | 8am-5pm (6pm weekend) | 4
Newburyport Cashman Park | Merrimack River | 978-462-3746; VHF 12, 16 | Self Service Memorial Day/End of October | 6
Newburyport Harbormaster | 60 Pleasant Street | 978-462-3746; VHF 12, 16 | Fri 1pm-5pm; Sat, Sun & Holidays 9am-5pm | N/A
Amesbury Marina at Hatter's Point | 60 Merrimac Street | 978-388-7333; VHF 9 | 8am-9pm | 4
West Newbury Harbormaster | Merrimack River Town Dock | 978-363-1213; VHF 9, 16 | On call; 9am-5pm | N/A
Salisbury Harbormaster | Town Wharf | 978-499-0740; VHF 12 | On call | N/A

Dated: June 28, 2010.
H. Curtis Spalding,
Regional Administrator, New England Region.

[FR Doc. 2010-18363 Filed 7-26-10; 8:45 am]

BILLING CODE 6560-50-P